DEPARTMENT OF TRANSPORTATION

Federal Aviation Administration

14 CFR Part 71

[Docket No. FAA-2021-0225; Airspace Docket No. 20-AAL-13]

RIN 2120-AA66

Amendment of Class E Airspace; Anaktuvuk Pass, AK

AGENCY: Federal Aviation Administration (FAA), DOT.

ACTION: Final rule.

SUMMARY: This action modifies the Class E airspace extending upward from 700 feet above the surface at Anaktuvuk Pass Airport, Anaktuvuk Pass, AK. This action updates the airport's geographic coordinates and removes the Anaktuvuk Pass NDB from the Class E5 text header and airspace description. The airspace supports instrument flight rules (IFR) operations at the airport.

DATES: Effective 0901 UTC, October 7, 2021. The Director of the Federal Register approves this incorporation by reference action under 1 CFR part 51, subject to the annual revision of FAA Order 7400.11 and publication of conforming amendments.

ADDRESSES: FAA Order 7400.11E, Airspace Designations and Reporting Points, and subsequent amendments can be viewed online at https://www.faa.gov//air_traffic/publications/. For further information, you can contact the Airspace Policy Group, Federal Aviation Administration, 800 Independence Avenue SW, Washington, DC 20591; telephone: (202) 267-8783. The Order is also available for inspection at the National Archives and Records Administration (NARA). For information on the availability of FAA Order 7400.11E at NARA, email fedreg.legal@nara.gov or go to https://www.archives.gov/federal-register/cfr/ibr-locations.html.

FOR FURTHER INFORMATION CONTACT: Matthew Van Der Wal, Federal Aviation Administration, Western Service Center, Operations Support Group, 2200 . 216th Street, Des Moines, WA 98198; telephone (206) 231-3695.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it modifies the Class E airspace at Anaktuvuk Pass Airport, Anaktuvuk Pass, AK, to ensure the safety and management of IFR operations at the airport.

History

The FAA published a notice of proposed rulemaking in the Federal Register (86 FR 18490; April 9, 2021) for Docket No. FAA-2021-0225 to modify the Class E airspace at Anaktuvuk Pass Airport, Anaktuvuk Pass, AK. Interested parties were invited to participate in this rulemaking effort by submitting written comments on the proposal to the FAA. No comments were received.

The NPRM for this action proposed to establish Class E airspace extending upward from 1,200 feet above the surface at Anaktuvuk Pass Airport. However, after the publication of the NPRM, the FAA determined that a previous Final Rule (76 FR 78144; December 16, 2011) for Docket No. FAA-2011-0867 established Class E airspace extending upward from 1,200 feet above the surface within a 66-mile radius of the airport. This airspace area was not included in the Class E5 airspace description published in FAA Order 7400.11E. Since Class E airspace, extending upward from 1,200 feet above the surface, already exists for the airport, the FAA is not modifying this airspace area. The airspace area has been added to the Class E5 airspace legal description.

Class E5 airspace designations are published in paragraph 6005 of FAA Order 7400.11E, dated July 21, 2020, and effective September 15, 2020, which is incorporated by reference in 14 CFR 71.1. The Class E airspace designation listed in this document will be published subsequently in the Order.

Availability and Summary of Documents for Incorporation by Reference

This document amends FAA Order 7400.11E, Airspace Designations and Reporting Points, dated July 21, 2020, and effective September 15, 2020. FAA Order 7400.11E is publicly available as listed in the ADDRESSES section of this document. FAA Order 7400.11E lists Class A, B, C, D, and E airspace areas, air traffic service routes, and reporting points.

The Rule

This amendment to 14 CFR part 71 modifies the Class E airspace, extending upward from 700 feet above the surface, at Anaktuvuk Pass Airport, Anaktuvuk Pass, AK. The modification properly sizes the airspace to contain IFR departures until reaching 1,200 feet above the surface, and IFR arrivals descending below 1,500 feet above the surface. The airspace's circular radius is reduced from 6.4 miles to 4 miles and three areas are added to the 4-mile radius. Two areas northeast of the airport and one area southwest of the airport.

This action also removes the Anaktuvuk Pass NDB from the Class E5 text header and airspace description. The Navigational Aid (NAVAID) is not needed to describe the airspace and removal of the NAVAID simplifies the airspace's description.

This action also updates the airport's geographical coordinates to “lat. 68°08′01″ N, long. 151°44′36″ W.”

FAA Order 7400.11, Airspace Designations and Reporting Points, is published yearly and effective on September 15.

Regulatory Notices and Analyses

The FAA has determined that this regulation only involves an established body of technical regulations for which frequent and routine amendments are necessary to keep them operationally current, is non-controversial, and unlikely to result in adverse or negative comments. It, therefore: (1) Is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule, when promulgated, would not have a significant economic impact on a substantial number of small entities under the criteria of the Regulatory Flexibility Act.

Environmental Review

The FAA has determined that this action qualifies for categorical exclusion under the National Environmental Policy Act in accordance with FAA Order 1050.1F, “Environmental Impacts: Policies and Procedures,” paragraph 5-6.5a. This airspace action is not expected to cause any potentially significant environmental impacts, and no extraordinary circumstances exist that warrant the preparation of an environmental assessment.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g), 40103, 40113, 40120; E.O. 10854, 24 FR 9565, 3 CFR, 1959-1963 Comp., p. 389.

§ 71.1 [Amended]

2. The incorporation by reference in 14 CFR 71.1 of FAA Order 7400.11E, Airspace Designations and Reporting Points, dated July 21, 2020, and effective September 15, 2020, is amended as follows:

Paragraph 6005 Class E Airspace Areas Extending Upward From 700 Feet or More Above the Surface of the Earth.

* * * * *

AAL AK E5 Anaktuvuk Pass, AK [Amended]

Anaktuvuk Pass Airport, AK

(Lat. 68°08′01″ N, long. 151°44′36″ W)

That airspace extending upward from 700 feet above the surface within a 4-mile radius of the airport, and within 1.0 mile west and 1.2 miles east of the 022° bearing from the airport, extending from the 4-mile radius to 23.7 miles north of the airport, and within 2.4 miles west and 1.8 miles east of the 038° bearing from the airport, extending from the 4-mile radius to 13 miles northeast of the airport, and within 1 mile each side of the 233° bearing from the airport, extending from the 4-mile radius to 4.5 miles southwest of the airport; and that airspace extending upward from 1,200 feet above the surface within a 66-mile radius of the airport.

Issued in Des Moines, Washington, on June 22, 2021.
B.G. Chew,
Acting Group Manager, Operations Support Group, Western Service Center.

[FR Doc. 2021-13704 Filed 6-28-21; 8:45 am]

BILLING CODE 4910-13-P